DEPARTMENT OF ENERGY

Federal Energy Regulatory Commission

[Docket No. CP23-129-000]

Corpus Christi Liquefaction, LLC, CCL Midscale 8-9, LLC; Notice of Schedule for the Preparation of an Environmental Assessment for the Corpus Christi Liquefaction Midscale Trains 8 & 9 Project

On March 30, 2023, Corpus Christi Liquefaction, LLC and CCL Midscale 8-9, LLC (collectively referred to as CCL) filed an application in Docket No. CP23-129-000 requesting Authorization pursuant to Section 3 of the Natural Gas Act to construct and operate certain natural gas pipeline facilities. The proposed project is known as the Corpus Christi Liquefaction Midscale Trains 8 & 9 Project (Project) and would expand CCL's existing terminal production capabilities. The proposed Trains 8 & 9 together would be capable of liquefying up to approximately 170 Billion cubic feet per year (Bcf/y) of natural gas for export.

On April 13, 2023, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA March 15, 2024

90-day Federal Authorization Decision Deadline ² June 13, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

CCL plans to construct and operate two midscale liquification trains; on-site refrigerant storage, end flash, and boil-off gas facilities; and proposes an increase in the authorized loading rate of liquified natural gas ship carriers in San Patricio and Nueces Counties, Texas. The Project facilities would be interconnected with the existing Liquefaction Project and Stage 3 Project facilities (authorized under Docket Nos. CP12-507-000 and CP18-512-000, respectively, and collectively referred to as CCL Terminal), which would require minor modifications for purposes of interconnection and integration of the expansion facilities. The Project would require the use of 1,395 acres of land within the CCL Terminal property.

Background

On November 10, 2022, the Commission issued a Notice of Scoping Period Requesting Comments on Environmental Issues for the Planned Corpus Christi Liquefaction Midscale Trains 8 & 9 Project and Notice of Public Scoping Session (Notice of Scoping). The Notice of Scoping, issued during the pre-filing review of the Project in Docket No. PF22-10-000, was sent to affected landowners; Federal, State, and local government agencies; elected officials; environmental and public interest groups; Native American tribes; other interested parties; and local libraries and newspapers. In response to the Notice of Scoping and Notice of Application, the Commission received comments from the U.S. Environmental Protection Agency, Texas Parks and Wildlife Service, National Oceanic and Atmospheric Administration, Texas Commission on Environmental Quality, non-governmental organizations, and individuals. The primary issues raised by the commenters are permitting, outreach, vessel traffic, shoreline erosion, socioeconomics, environmental justice, air quality, water resources, aquatic resources, safety, and cumulative impacts. All substantive comments will be addressed in the EA.

U.S. Department of Energy, U.S. Department of Transportation Pipeline and Hazardous Materials Safety Administration, and U.S. Coast Guard are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-129), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 3, 2023.
Kimberly D. Bose,
Secretary.

[FR Doc. 2023-24838 Filed 11-8-23; 8:45 am]

BILLING CODE 6717-01-P